NEIGHBORHOOD REINVESTMENT CORPORATION

Sunshine Act Meetings; Audit Committee Meeting

TIME & DATE: 11:30 a.m., Friday, November 18, 2022.

PLACE: Via Conference Call.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b (c)(2) and (4) permit closure of the following portion(s) of this meeting:

• Executive Session

Agenda

I. CALL TO ORDER

II. Sunshine Act Approval of Executive (Closed) Session

III. Executive Session with Chief Audit Executive

IV. FY23 Internal Audit Plan and Risk Assessment

V. Network Disaffiliation

VI. Proposal to Cancel Covid 19: Return to Office

VII. Proposal to Defer Projects to FY23

Identify Access Management

Third-Party Vendor Management—Gappify Post Implementation Review

VIII. Internal Audit Status Reports

a. Internal Audit Reports Awaiting Management's Response

Procurement—Professional & Vendor Service Contracts that are equal to or less than 20K (FY22)

b. Internal Audit Performance Scorecard

c. Implementation of Internal Audit Recommendations

d. Dependent on other IT Project Management (IAM)

IX. Adjournment

CONTACT PERSON FOR MORE INFORMATION: Lakeyia Thompson, Special Assistant, (202) 524-9940; Lthompson@nw.org.

Lakeyia Thompson,
Special Assistant.

[FR Doc. 2022-24679 Filed 11-8-22; 11:15 am]

BILLING CODE 7570-02-P